DEPARTMENT OF LABOR

Employment and Training Administration

[TA-W-63,235]

Southprint, Inc., Reidsville Division, Reidsville, NC; Notice of Negative Determination on Reconsideration

On July 31, 2008, the Department issued an Affirmative Determination Regarding Application for Reconsideration for the workers and former workers of the subject firm. The notice was published in the Federal Register on August 7, 2008 (73 FR 46037).

The initial investigation resulted in a negative determination based on the finding that imports of screen-printing for apparel did not contribute importantly to worker separations at the subject firm and no shift of production to a foreign source occurred.

In the request for reconsideration the petitioner alleged that business at the subject firm declined because the subject firm's customers shifted screen-printing for apparel to foreign facilities. The petitioner provided an additional list of customers and alleged that these customers are importing screen-printing for apparel.

On reconsideration the Department of Labor surveyed these declining customers regarding their purchases of products like or directly competitive with screen-printing for apparel during 2006, 2007 and January through March, 2008 over the corresponding 2007 period. The survey revealed that the customers did not import products like or directly competitive with screen-printing for apparel during the relevant period.

The fact that the subject firm's customers are shifting their production abroad is not relevant to this investigation. According to section (a)(2)(B) of the Trade Act, in order to be eligible for TAA on the basis of a shift in production abroad, the shift in production must be implemented by the subject firm or its subdivision.

In this case, the subject firm did not import screen-printing for apparel nor was there a shift in production from subject firm abroad during the relevant period.

Conclusion

After reconsideration, I affirm the original notice of negative determination of eligibility to apply for worker adjustment assistance for workers and former workers of Southprint, Inc., Reidsville Division, Reidsville, North Carolina.

Signed at Washington, DC this 26th day of August, 2008.
Elliott S. Kushner,
Certifying Officer, Division of Trade Adjustment Assistance.

[FR Doc. E8-20346 Filed 9-2-08; 8:45 am]

BILLING CODE 4510-FN-P